DEPARTMENT OF HEALTH AND HUMAN SERVICES

Centers for Disease Control and Prevention

Advisory Committee for Injury Prevention and Control: Family and Intimate Violence Prevention Subcommittee: Conference Call

In accordance with section 10(a)(2) of the Federal Advisory Committee Act (Pub. L. 92-463), the Centers for Disease Control and Prevention (CDC) announces the following subcommittee conference call.

Name: ACIPC Family and Intimate Violence Prevention Subcommittee.

Times and Dates: 1 p.m.-3 p.m., March 12, 2001.

Place: National Center for Injury Prevention and Control (NCIPC), Koger Center—Vanderbilt Building, Conference Room 2000, 2939 Flowers Road South, Atlanta, Georgia 30341.

Status: Open to the public, limited only by the space available.

Purpose: To provide and make recommendations to ACIPC and the Director, NCIPC, regarding feasible goals for prevention and control of family and intimate violence and sexual assault. The Subcommittee will make recommendations regarding policies, strategies, objectives and priorities.

Matters To Be Discussed: The Subcommittee will discuss the FY 2001 Violence Against Women activities, and NCIPC's Research Agenda.

Agenda items are subject to change as priorities dictate.

Contact Person for More Information: Ileana Arias, Ph.D., Chief, Etiology and Surveillance Branch (Provisional), Division of Violence Prevention, NCIPC, CDC, 4770 Buford Highway, NE, M/S K60, Atlanta, Georgia 30341-3724, telephone 770/488-4410.

This notice is published less than 15 days prior to the meeting due to administrative delays.

The Director, Management Analysis and Services Office, has been delegated the authority to sign Federal Register notices pertaining to announcements of meetings and other committee management activities, for both the Centers for Disease Control and Prevention and the Agency for Toxic Substances and Disease Registry.

Dated: February 22, 2001.
John Burckhardt,
Acting Director, Management Analysis and Services Office.

[FR Doc. 01-4828 Filed 2-27-01; 8:45 am]

BILLING CODE 4163-18-P